DEPARTMENT OF COMMERCE

National Telecommunications and Information Administration

[Docket No. 100721305-0436-02]

RIN 0660-XA18

Cybersecurity, Innovation and the Internet Economy

AGENCY: National Telecommunications and Information Administration, U.S. Department of Commerce.

ACTION: Notice of extension of comment period.

SUMMARY: The Department of Commerce's Internet Policy Task Force announces that the closing deadline for submission of comments responsive to the July 28, 2010 notice of inquiry on the nexus between cybersecurity challenges in the commercial sector and innovation in the Internet economy has been extended until 5 p.m. Eastern Daylight Time (EDT) on September 20, 2010.

DATES: Comments are due by 5 p.m. EDT on September 20, 2010.

ADDRESSES: Written comments may be submitted by mail to Diane Honeycutt, National Institute of Standards and Technology, 100 Bureau Drive, Stop 8930, Gaithersburg, MD 20899. Submissions may be in any of the following formats: HTML, ASCII, Word, rtf, or pdf. Online submissions in electronic form may be sent to cybertaskforce@doc.gov. Paper submissions should include a three and one-half inch computer diskette or compact disc (CD). Diskettes or CDs should be labeled with the name and organizational affiliation of the filer and the name of the word processing program used to create the document. Comments will be posted at http://www.ntia.doc.gov/internetpolicytaskforce and http://csrc.nist.gov.

FOR FURTHER INFORMATION CONTACT: For general questions about this amended Notice contact: Jon Boyens, International Trade Administration, U.S. Department of Commerce, 1401 Constitution Avenue, NW., Room 2806, Washington, DC 20230, telephone (202) 482-0573, e-mail Jon.Boyens@trade.gov; or Alfred Lee, National Telecommunications and Information Administration, U.S. Department of Commerce, 1401 Constitution Avenue, NW., Room 4725, Washington, DC 20230, telephone (202) 482-1880, e-mail Alee@ntia.doc.gov. Please direct media inquires to the National Institute of Standards and Technology Office of Public and Business Affairs at (301) 975-6478.

SUPPLEMENTARY INFORMATION: On April 21, 2010, the Department of Commerce (the “Department”) announced the formation of a Commerce-wide Internet Policy Task Force (“Task Force”) to identify leading public policy and operational issues impacting the U.S. private sector's ability to realize the potential for economic growth and job creation through the Internet.¹ On July 28, 2010, the Task Force issued a notice of inquiry on the nexus between cybersecurity challenges in the commercial sector and innovation in the Internet economy, with a closing date for comments of September 13, 2010.² The Task Force announces that the closing deadline for submission of comments responsive to the July 28, 2010 notice has been extended until 5 p.m. Eastern Daylight Time (EDT) on September 20, 2010.

¹ Commerce Secretary Locke Launches Internet Policy Task Force, Department of Commerce Press Release (April 21, 2010), at http://www.commerce.gov/news/press-releases/2010/04/21/commerce-secretary-locke-announces-public-review-privacy-policy-and-i.

² See 75 Fed. Reg. 44216 (July 28, 2010).

Dated: September 8, 2010.
Lawrence E. Strickling,
Assistant Secretary for Communications and Information.

[FR Doc. 2010-22774 Filed 9-13-10; 8:45 am]

BILLING CODE 3510-60-P